DEPARTMENT OF ENERGY

Federal Energy Regulatory Commission

[Project No. 6795-023]

Notice of Transfer of Exemption; Town of Pownal, Hoosic River Hydro, LLC

1. By letter filed December 15, 2017, William F. Scully, on behalf of the Town of Pownal and the Hoosic River Hydro, LLC, informed the Commission that the exemption from licensing for the Pownal Hydroelectric Project No. 6795, originally issued April 1, 1983,¹ has been transferred to Hossic River Hydro, LLC. The project is located on the Hoosic River in Bennington, County, Vermont. The transfer of an exemption does not require Commission approval.

¹ Order Granting Exemption from Licensing of a Small Hydroelectric Project of 5 Megawatts or Less. Pownal Hydropower Corporation, 23 FERC 62,004 (1983).

2. Hoosic River Hydro, LLC is now the exemptee of the Pownal Hydroelectric Project No. 6795. All correspondence should be forwarded to: Mr. William Scully, Hoosic River Hydro, LLC, P.O. Box 338, North Bennington, VT 05257, Phone: 802-379-2469.

Dated: March 29, 2018.
Kimberly D. Bose,
Secretary.

[FR Doc. 2018-06799 Filed 4-3-18; 8:45 am]

BILLING CODE 6717-01-P